DEPARTMENT OF THE INTERIOR

Bureau of Indian Affairs

Draft Environmental Impact Statement for the Cloverdale Rancheria of Pomo Indians' Proposed 70-Acre Trust Acquisition and Resort Casino Project, Sonoma County, CA

AGENCY: Bureau of Indian Affairs, Interior.

ACTION: Notice of availability.

SUMMARY: This notice advises the public that the Bureau of Indian Affairs (BIA) as lead agency, with the Cloverdale Rancheria of Pomo Indians (Tribe), National Indian Gaming Commission (NIGC), Environmental Protection Agency (EPA), California Department of Transportation (Caltrans), Sonoma County, and City of Cloverdale as cooperating agencies, intends to file a Draft Environmental Impact Statement (DEIS) with the EPA for the Tribe's proposed 70± acre Fee-to-Trust and Resort Casino Project to be located within Sonoma County, California, and that the DEIS is now available for public review and comment. This notice provides a 75-day public comment period and thereby grants an automatic 30-day extension to the normal 45-day public comment period.

DATES: The DEIS will be available for public comment beginning August 6, 2010. Written comments on the DEIS must arrive by October 20, 2010. A public hearing will be held on Thursday, September 16, 2010 from 6 p.m. to 9 p.m. or until the last public comment is received.

ADDRESSES: You may mail or hand carry written comments to Dale Morris, Regional Director, Pacific Region, Bureau of Indian Affairs, 2800 Cottage Way, Sacramento, CA 95825. The public hearing will be held at: Cloverdale City Citrus Fairgrounds, Citrus Fair Drive Number 1, Tea Room, Cloverdale, CA 95425. See SUPPLEMENTARY INFORMATION for locations where the DEIS will be available for review and instructions for submitting comments.

FOR FURTHER INFORMATION CONTACT: John Rydzik, (916) 978-6051.

SUPPLEMENTARY INFORMATION: The Tribe has requested the BIA to acquire six parcels, totaling 70± acres of land, on which the Tribe proposes to develop a destination resort casino. Approximately 2 acres of the site are located within the City of Cloverdale, California, while the remaining 68 acres are within unincorporated Sonoma County, California. The project site is situated immediately east of Highway 101 and borders Asti Road. Regional access to the project site is provided by Highway 101, with local access provided by South Cloverdale Boulevard via Highway 101. The proposed trust parcels partially overlap with the Tribe's historic Rancheria location.

The proposed action consists of: The fee-to-trust transfer of the project site; Federal review (by NIGC) of the development and management contract; and development of the proposed project. The proposed project includes: An 80,000 square-foot casino; 287,000 square-foot hotel with 244 rooms; 48,600 square-foot convention center; 28,100 square-foot entertainment center; 3,400 garage and surface parking spaces; and other ancillary facilities. A 20,000 square-foot tribal government building is proposed on the south end of the project site. Buildings would have a height of up to two stories above grade with the exception of the hotel and parking garage which would have a height of up to five stories above grade.

The BIA, serving as the lead agency for compliance with the National Environmental Policy Act (NEPA), published a Notice of Intent To Prepare the EIS for the proposed action in the Federal Register on July 7, 2008. (See 73 FR 38466). In addition to the Tribe, NIGC, EPA, Caltrans, Sonoma County, and the City of Cloverdale have accepted invitations to be cooperating agencies, as entities having jurisdiction by law or special expertise relevant to environmental issues.

BIA held a public scoping meeting on July 30, 2008, at the Cloverdale Citrus Fairgrounds in the City of Cloverdale, California. From that scoping meeting, a range of project alternatives were developed and subsequently analyzed in the DEIS, including: (1) Alternative A—Proposed Action; (2) Alternative B—Reduced Hotel and Casino; (3) Alternative C—Reduced Casino; (4) Alternative D—Casino Only; (5) Alternative E—Commercial Retail-Office Space; and (6) Alternative F—No Action Alternative. Environmental issues addressed in the DEIS include land resources; water resources; air quality; biological resources; cultural and paleontological resources; socioeconomic conditions; transportation; land use and agriculture; public services; noise; hazardous materials; visual resources; environmental justice; growth inducing effects, indirect effects; cumulative effects; and mitigation measures.

Directions for Submitting Comments

Please include your name, return address, and the caption: “DEIS Comments, Cloverdale Rancheria of Pomo Indians' Fee-to-Trust and Resort Casino Project,” on the first page of your written comments and submit comments to the BIA address listed in the ADDRESSES section of this notice.

Availability of DEIS

The DEIS will be available to view at Cloverdale Regional Library, 401 North Cloverdale Boulevard, Cloverdale, CA 95425 and at the Santa Rosa Central Library, 211 E Street, Santa Rosa, CA 95404. General information for the Cloverdale Regional Library can be obtained by calling (707) 894-5271 and the Santa Rosa Central Library by calling (707) 545-0831. An electronic version of the DEIS can also be viewed at: http://www.cloverdalerancheria.com/eis.html. To obtain a compact disk copy of the DEIS, please provide your name and address in writing or by voicemail to the person listed in the FOR FURTHER INFORMATION CONTACT section of this notice. Individual paper copies of the DEIS will be provided upon payment of applicable printing expenses by the requestor for the number of copies requested.

Public Comment Availability

Written comments, including the names and addresses of respondents, will be available for public review at the BIA address shown in the ADDRESSES section, during regular business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority

This notice is published pursuant to section 1503.1 of the Council of Environmental Quality Regulations (40 CFR Parts 1500 through 1508) implementing the procedural requirements of NEPA of 1969, as amended (42 U.S.C. 4371 et seq.), Department of the Interior Manual (516 DM 1-6) and is in the exercise of authority delegated to the Assistant Secretary—Indian Affairs by 209 DM 8.

Dated: July 20, 2010.
Donald Laverdure,
Deputy Assistant Secretary—Indian Affairs.

[FR Doc. 2010-19186 Filed 8-5-10; 8:45 am]

BILLING CODE 4310-W7-P